DEPARTMENT OF THE INTERIOR

National Park Service

[NPS-WASO-NAGPRA-16403; PPWOCRADN0-PCU00RP14.R50000]

Notice of Inventory Completion: U.S. Department of Defense, Army, National Museum of Health and Medicine, Silver Spring, MD

AGENCY: National Park Service, Interior.

ACTION: Notice.

SUMMARY: The National Museum of Health and Medicine has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the National Museum of Health and Medicine. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the National Museum of Health and Medicine at the address in this notice by October 10, 2014.

ADDRESSES: Dr Franklin E. Damann, National Museum of Health and Medicine, 2460 Linden Lane, Building 2500, Silver Spring, MD 20910, telephone (301) 319-3306, email franklin.e.damann2.civ@mail.mil.

SUPPLEMENTARY INFORMATION: Notice is here given in accordance with the Native American Graves Protection and Repatriation Act (NAGPRA), 25 U.S.C. 3003, of the completion of an inventory of human remains under the control of the National Museum of Health and Medicine, Silver Spring, MD. The human remains were removed from Chernofski, Unalaska, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the National Museum of Health and Medicine professional staff in consultation with representatives of the Qawalangin Tribe of Unalaska.

History and Description of the Remains

On July 7, 1886, human remains representing, at minimum, two individuals were transferred from the U.S. National Museum (today the Smithsonian Institution's National Museum of Natural History) to the Army Medical Museum (today the National Museum of Health and Medicine). In 1880, affiliates of the U.S. National Museum removed human skeletal remains from Chernofski Harbor in Unalaska, AK. Original records of the collection are maintained by the Smithsonian Institution, and through coordination, we are able to determine that one cranium was removed by T.H. Bean and a second cranium was removed by W.H. Dall. No known individuals are identified in the historic records, and no associated funerary objects are present.

The cranium collected by T.H. Bean was from a prehistoric Aleutian site at Chernofski, Unalaska, and was given Smithsonian Number 20825. Upon transfer to the Army Medical Museum in 1886, the cranium was accessioned under a second number, PS 9666. This human cranium is of a single adult, with extensive loss of bone and several perforations of the frontal and parietals.

The cranium collected by W.H. Dall, also from a prehistoric Aleutian site at Chernofski, Unalaska, was given Smithsonian Number 20842. Upon transfer to the Army Medical Museum in 1886, the cranium was accessioned under a second number, PS 9667. This human cranium is of a single adult female, with extensive hyperostosis and several perforations of the frontal and parietal bones.

No information exists about the collection sites, other than both craniums were collected at Chernofski, Unalaska in 1880. The museum's consultation efforts identify one tribe that remains geographically affiliated with Unalaska: The Qawalangin Tribe of Unalaska.

Determinations Made by the National Museum of Health and Medicine

Officials of the National Museum of Health and Medicine have determined that:

• Pursuant to 25 U.S.C. 3001(9), the human remains described in this notice represent the physical remains of two individuals of Native American ancestry.

• Pursuant to 25 U.S.C. 3001(2), there is a relationship of shared group identity that can be reasonably traced between the Native American human remains and the Qawalangin Tribe of Unalaska.

Additional Requestors and Disposition

Lineal descendants or representatives of any Indian tribe or Native Hawaiian organization not identified in this notice that wish to request transfer of control of these human remains should submit a written request with information in support of the request to Dr Franklin E. Damann, National Museum of Health and Medicine, 2460 Linden Lane, Building 2500, Silver Spring, MD 20910, telephone (301) 319-3306, email franklin.e.damann2.civ@mail.mil, by October 10, 2014. After that date, if no additional requestors have come forward, transfer of control of the human remains to the Qawalangin Tribe of Unalaska may proceed.

The National Museum of Health and Medicine is responsible for notifying the Qawalangin Tribe of Unalaska that this notice has been published.

Dated: August 1, 2014.
Melanie O'Brien,
Acting Manager, National NAGPRA Program.

[FR Doc. 2014-21517 Filed 9-9-14; 8:45 am]

BILLING CODE 4312-50-P